DEPARTMENT OF TRANSPORTATION

Federal Aviation Administration

14 CFR Part 39

[Docket No. FAA-2014-0498; Directorate Identifier 2013-SW-052-AD; Amendment 39-18745; AD 2016-25-19]

RIN 2120-AA64

Airworthiness Directives; Airbus Helicopters (Previously Eurocopter France) Helicopters

AGENCY: Federal Aviation Administration (FAA), DOT.

ACTION: Final rule.

SUMMARY: We are superseding airworthiness directive (AD) 2010-21-07 for Eurocopter France (now Airbus Helicopters) Model AS350B3 and EC130B4 helicopters. AD 2010-21-07 required inspecting the pilot's and co-pilot's throttle twist for proper operation of the contactors. This new AD retains the requirements of AD 2010-21-07, includes additional inspection procedures, and revises the inspection interval. These actions are intended to address the unsafe condition on these products.

DATES: This AD is effective February 2, 2017.

The Director of the Federal Register approved the incorporation by reference of certain publications listed in this AD as of February 2, 2017.

ADDRESSES: For service information identified in this final rule, contact Airbus Helicopters, Inc., 2701 N. Forum Drive, Grand Prairie, TX 75052; telephone (972) 641-0000 or (800) 232-0323; fax (972) 641-3775; or at http://www.airbushelicopters.com/techpub. You may view this referenced service information at the FAA, Office of the Regional Counsel, 10101 Hillwood Parkway, Fort Worth, Texas, 76177. It is also available on the Internet at http://www.regulations.gov by searching for and locating Docket No. FAA-2014-0498.

Examining the AD Docket

You may examine the AD docket on the Internet at http://www.regulations.gov in Docket No. FAA-2014-0498; or in person at the Docket Management Facility between 9 a.m. and 5 p.m., Monday through Friday, except Federal holidays. The AD docket contains this AD, the European Aviation Safety Agency (EASA) AD, any incorporated-by-reference information, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: George Schwab, Aviation Safety Engineer, Safety Management Group, Rotorcraft Directorate, FAA, 10101 Hillwood Parkway, Fort Worth, Texas, 76101; telephone (817) 222-5110; email george.schwab@faa.gov.

SUPPLEMENTARY INFORMATION:

Discussion

We issued a notice of proposed rulemaking (NPRM) to amend 14 CFR part 39 to remove AD 2010-21-07, Amendment 39-16467 (75 FR 63052, October 14, 2010) and add a new AD. AD 2010-21-07 required repetitively inspecting the pilot's and co-pilot's throttle twist for proper operation of the contactors, which provide for changes between the “IDLE” and “FLIGHT” positions of the throttle twist grip control. The NPRM published in the Federal Register on July 30, 2014 (79 FR 44142), and proposed to retain the inspection requirements of AD 2010-21-07 and included additional requirements to inspect for proper operation of contactors 53Ka and 53Kb and the pilot and copilot throttle twist grip controls for proper functioning. The NPRM also proposed to reduce the intervals of the inspections from 600 hours time-in-service (TIS) to 300 hours TIS.

The NPRM was prompted by AD No. 2013-0191-E, dated August 22, 2013, issued by EASA, which is the Technical Agent for the Member States of the European Union. EASA advises that the switches in the engine “IDLE” or “FLIGHT” control system could be affected by the corrosive effects of a salt-laden atmosphere, which could lead to engine power loss. EASA states that these corrosive effects are not prevented by MOD 074263, which Eurocopter designed to address the unsafe condition identified in AD 2010-21-07. According to EASA, a subsequent accident occurred which involved power loss in flight of a Model AS350B3 helicopter with MOD 074263 installed. As a result, EASA AD No. 2013-0191-E does not accept MOD 074263 as terminating action for the required repetitive maintenance actions. Accordingly, the two letters we issued approving MOD 074263 as an Alternate Method of Compliance for AD 2010-21-07 are no longer valid.

Comments

After our NPRM (79 FR 44142, July 30, 2014) was published, we received comments from three commenters.

Request

Two commenters requested that we change the compliance times for the recurring inspection to allow for a longer compliance time for helicopters that do not operate in corrosive or salt laden environments. One commenter noted that the failures have been attributed to operations in a corrosive environment. The other commenter stated the proposed AD would penalize operators in non-salt laden environments by requiring the shorter compliance time. The commenters also requested that we adopt the same compliance intervals, 330 hours TIS or 660 hours TIS for helicopters that do not operate in salt laden environments, allowed by the manufacturer's service information. The commenters stated that this would facilitate maintenance scheduling.

We agree. We are adding a longer recurring inspection compliance interval for helicopters that do not operate in salt laden conditions to match the manufacturer's service information. We have also increased the compliance intervals for the recurring inspection to 330 hours TIS for helicopters operating in salt-laden environments and to 660 hours TIS for all other helicopters.

One commenter requested that the proposed AD condition compliance with paragraph 3.B.2 of the manufacturer's service information on the results of the inspection in paragraph 3.B.1. The commenter noted that the proposed AD requires compliance with paragraph 3.B.1 through 3.B.6 of the service information, but does not clarify that compliance with paragraph 3.B.2 is only required if the aircraft fails the prior inspection.

We agree that compliance with paragraph 3.B.2 of the service information is conditional, but we do not agree that a change to the AD language is necessary. There is no ambiguity in the service information incorporated by reference in the AD as to when compliance with paragraph 3.B.2 is necessary.

FAA's Determination

We have reviewed the relevant information and determined that an unsafe condition exists and is likely to exist or develop on other helicopters of these same type designs and that air safety and the public interest require adopting the AD requirements as proposed, except for the changes described previously. We have also changed the service information that is incorporated by reference to the most current revision. These changes are consistent with the intent of the proposals in the NPRM (79 FR 44142, July 30, 2014) and will not increase the economic burden on any operator nor increase the scope of the AD.

Interim Action

We consider this AD interim action. The design approval holder is currently developing a modification that will address the unsafe condition identified in this proposed AD. Once this modification is developed, approved, and available, we might consider additional rulemaking.

Related Service Information Under 1 CFR Part 51

Since we published the NPRM (79 FR 44142, July 30, 2014), Airbus Helicopters (previously Eurocopter) revised its service information. We reviewed one document that co-publishes 3 Emergency Alert Service Bulletin (EASB) identification numbers: No. 05.00.61, Revision 3, dated June 15, 2015, for Model AS350B3 helicopters; No. 05.00.41, Revision 2, dated June 15, 2015, for the non-FAA type-certificated Model AS550C3 helicopter; and No. 05A009, Revision 3, dated June 15, 2015, for Model EC130B4 helicopters. EASB Nos. 05.00.61 and 05A009 are incorporated by reference in this AD. EASB No. 05.00.41 is not incorporated by reference in this AD.

This service information describes procedures for a functional check and installation of a protection for micro-contacts (microswitches) 53Ka, 53Kb, and 65K (IDLE/FLIGHT mode). EASA classified the prior revision of this service information as mandatory and issued EASA Emergency AD No. 2013-0191-E, dated August 22, 2013, to ensure the continued airworthiness of these helicopters.

Because this revision of EASB No. 05.00.61 and No. 05A009 specifies the same actions but clarifies the procedures used in applying varnish to the microswitches, we are incorporating this revision by reference in this AD.

This service information is reasonably available because the interested parties have access to it through their normal course of business or by the means identified in the ADDRESSES section.

Costs of Compliance

We estimate that this AD will affect 517 helicopters of U.S. Registry.

We estimate that operators will incur the following costs in order to comply with this AD. The average labor rate is $85 per work hour. It will take about 4 work hours for the inspections and any necessary maintenance, for a total cost of $340 per helicopter and $175,780 for the U.S. fleet per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-21-07, Amendment 39-16467 (75 FR 63052, October 14, 2010), and adding the following new AD:

2016-25-19 Airbus Helicopters (Previously Eurocopter France) Helicopters: Amendment 39-18745; Docket No. FAA-2014-0498; Directorate Identifier 2013-SW-052-AD.

(a) Applicability

This AD applies to Model AS350B3 and EC130B4 helicopters, certificated in any category, with the ARRIEL 2B1 engine with the two-channel Full Authority Digital Engine Control (FADEC) and with new twist grip modification (MOD) 073254 for the Model AS350B3 helicopter or MOD 073773 for the Model EC130B4 helicopter, installed.

(b) Unsafe Condition

This AD defines the unsafe condition as failure of one of the two contactors, 53Ka or 53Kb, which can prevent switching from “IDLE” mode to “FLIGHT” mode during autorotation training making it impossible to recover from the practice autorotation and compelling the pilot to continue the autorotation to the ground. This condition could result in unintended touchdown to the ground at a flight-idle power setting during a practice autorotation, damage to the helicopter, and injury to occupants.

(c) Affected ADs

This AD supersedes AD 2010-21-07, Amendment 39-16467 (75 FR 63052, October 14, 2010).

(d) Effective Date

This AD becomes effective February 2, 2017.

(e) Compliance

You are responsible for performing each action required by this AD within the specified compliance time unless it has already been accomplished prior to that time.

(f) Required Actions

(1) Before the next practice autorotation or on or before 100 hours time-in-service (TIS), whichever occurs first, inspect the wiring, perform an insulation test, inspect the pilot and copilot throttle twist grip controls, and test the pilot and copilot throttle twist grip controls for proper functioning by following the Accomplishment Instructions, paragraph 3.B.1 through 3.B.6, of Airbus Helicopters Emergency Alert Service Bulletin (EASB) No. 05.00.61, Revision 3, dated June 15, 2015, for Model AS350B3 helicopters or EASB No. 05A009, Revision 3, dated June 15, 2015, for Model EC130B4 helicopters, as appropriate for your model helicopter.

(2) Repeat the inspections in paragraph (f)(1) of this AD at intervals not to exceed the following compliance times. For purposes of this AD, salt laden conditions exist when a helicopter performs a flight from a takeoff and landing area, heliport, or airport less than 0.5 statute mile from salt water or performs a flight within 0.5 statute mile from salt water below an altitude of 1,000 ft. above ground or sea level.

(i) For helicopters that have operated in salt laden conditions since the previous inspection required by this AD, at intervals not to exceed 330 hours TIS.

(ii) For helicopters that have not operated in salt laden conditions since the previous inspection required by this AD, at intervals not to exceed 660 hours TIS.

(g) Alternative Methods of Compliance (AMOCs)

(1) The Manager, Safety Management Group, FAA, may approve AMOCs for this AD. Send your proposal to: George Schwab, Aviation Safety Engineer, Safety Management Group, Rotorcraft Directorate, 10101 Hillwood Parkway, Fort Worth, Texas 76177; telephone (817) 222-5110; email george.schwab@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) Emergency AD No. 2013-0191-E, dated August 22, 2013. You may view the EASA AD at http://www.regulations.gov in Docket No. FAA-2014-0498.

(i) Subject

Joint Aircraft Service Component (JASC) Code: 76 Engine Controls.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin (EASB) No. 05.00.61, Revision 3, dated June 15, 2015.

(ii) Airbus Helicopters EASB No. 05A009, Revision 3, dated June 15, 2015.

Note 1 to paragraph (j)(2): Airbus Helicopters EASB No. 05.00.61, Revision 3, dated June 15, 2015, and Airbus Helicopters EASB No. 05A009, Revision 3, dated June 15, 2015 are co-published as one document along with Airbus Helicopters EASB No. 05.00.41, Revision 2, dated June 15, 2015, which is not incorporated by reference in this AD.

(3) For Airbus Helicopters service information identified in this final rule, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on December 6, 2016.
Scott A. Horn,
Acting Manager, Rotorcraft Directorate, Aircraft Certification Service.

[FR Doc. 2016-30020 Filed 12-28-16; 8:45 am]

BILLING CODE 4910-13-P